DEPARTMENT OF THE INTERIOR

Bureau of Land Management

[LLNMP01200 L10200000.DN0000 14X]

Notice of Public Meeting, Pecos District Resource Advisory Council (RAC) Lesser Prairie-Chicken Habitat Preservation Area of Critical Environmental Concern (LPC ACEC) Livestock Grazing Subcommittee Meeting

AGENCY: Bureau of Land Management, Interior.

ACTION: Notice of Public Meeting.

SUMMARY: In accordance with the Federal Land Policy and Management Act and the Federal Advisory Committee Act, the Bureau of Land Management (BLM) Pecos District Resource Advisory Council's (RAC) Lesser Prairie-Chicken (LPC) Habitat Preservation Area of Critical Environmental Concerns (ACEC) Livestock Grazing Subcommittee will meet as indicated below.

DATES: The LPC ACEC Subcommittee will meet on September 17, 2014, at the Roswell Field Office, 2909 West 2nd Street, Roswell, New Mexico 88201, from 9 a.m.-12 p.m. The public may send written comments to the Subcommittee at the BLM Pecos District Office, 2909 West 2nd Street, Roswell, New Mexico 88201.

FOR FURTHER INFORMATION CONTACT: Adam Ortega, Range Management Specialist, Roswell Field Office, Bureau of Land Management, 2909 West 2nd Street, Roswell, New Mexico 88201, 575-627-0204. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member Pecos District RAC elected to create a subcommittee to advise the Secretary of the Interior, through the BLM, on a grazing plan and management issues associated with the LPC ACEC. Planned agenda items include: An overview of the LPC ACEC and the management objectives as stated in the Pecos District Resource Management Plan Amendment (RMPA); and a discussion on grazing in the LPC ACEC.

For any interested members of the public who wish to address the Subcommittee, there will be a half-hour public comment period beginning at 11 a.m. Depending on the number of persons wishing to speak and time available, the time for individual comments may be limited.

Jim Stovall,
District Manager.

[FR Doc. 2014-19044 Filed 8-11-14; 8:45 am]

BILLING CODE 4310-FB-P